DEPARTMENT OF COMMERCE

International Trade Administration

[A-580-829]

Stainless Steel Wire Rod from Korea; Amended Final Results of Antidumping Duty Administrative Review

AGENCY: Import Administration, International Trade Administration, Department of Commerce.

ACTION: Notice of Amended Final Results of Antidumping Duty Administrative Review.

SUMMARY: We are amending our final results of the administrative review of the antidumping duty order on stainless steel wire rod from the Republic of Korea, published on February 13, 2002 (Stainless Steel Wire Rod from Korea; Final Results of Antidumping Duty Administrative Review, 67 FR 6685 (February 13, 2002) (Final Results)), to reflect the correction of a ministerial error made in the final results. This correction is in accordance with section 751(h) of the Tariff Act of 1930, as amended (the Act) and 19 CFR 351.224(e) of the Department of Commerce's (the Department's) regulations. The period covered by these amended final results of review is September 1, 1999 through August 31, 2000.

EFFECTIVE DATE : March 12, 2002.

FOR FURTHER INFORMATION CONTACT: Alexander Amdur or Karine Gziryan, AD/CVD Enforcement, Office 4, Group II, Import Administration, International Trade Administration, U.S. Department of Commerce, 14th Street and Constitution Ave., N.W., Washington, D.C. 20230; telephone: (202) 482-5346 or 482-4081, respectively.

The Applicable Statute

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (2000).

Background

On February 13, 2002, the Department published the final results of the administrative review of the antidumping duty order on stainless steel wire rod from the Republic of Korea. See Final Results.

On February 12, 2002, we received a timely allegation from Changwon Specialty Steel Co., Ltd. (Changwon) and Dongbang Special Steel Co., Ltd. (Dongbang) (collectively, respondents) that the Department made a ministerial error in the final results of review. The petitioner did not submit any comments in reply to this ministerial error allegation.

Scope of Review

For purposes of this review, SSWR comprises products that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling annealing, and/or pickling and/or descaling, are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire-drawing machines are set up to draw. The range of SSWR sizes normally sold in the United States is between 0.20 inches and 1.312 inches in diameter.

Two stainless steel grades are excluded from the scope of the review. SF20T and K-M35FL are excluded. The chemical makeup for the excluded grades is as follows:

SF20T
Carbon | 0.05 max | Chromium | 19.00/21.00
Manganese | 2.00 max | Molybdenum | 1.50/2.50
Phosphorous | 0.05 max | Lead-added | (0.10/0.30)
Sulfur | 0.15 max | Tellurium-added | (0.03 min)
Silicon | 1.00 max
K-M35FL
Carbon | 0.015 max | Nickel | 0.30 max
Silicon | 0.70/1.00 | Chromium | 12.50/14.00
Manganese | 0.40 max | Lead | 0.10/0.30
Phosphorous | 0.04 max | Aluminum | 0.20/0.35
Sulfur | 0.03 max

The products subject to this review are currently classifiable under subheadings 7221.00.0005, 7221.00.0015, 7221.00.0030, 7221.00.0045, and 7221.00.0075 of the Harmonized Tariff Schedule of the United States (HTSUS). Although the HTSUS subheadings are provided for convenience and customs purposes, the written description of the scope of this review is dispositive.

Amendment of Final Results

The respondents contend that in the Final Results, and accompanying Decision Memo at Comment 8, the Department agreed with the respondents' argument that the Department should replace the variable costs of manufacturing (VCOMs) and total costs of manufacturing (TCOMs) based on semiannual costs that are reported on the sales databases with the VCOMs and TCOMs based on annual costs that are reported on the cost database. The respondents allege that the Department correctly implemented this change for the VCOMs and TCOMs reported on the U.S. sales database, but erred by failing to make the same adjustment to the VCOMs reported on the home market sales database.

After reviewing our calculations, we found that we inadvertently failed to make this adjustment to the VCOMs reported on the home market sales database, and have determined that this error constitutes a ministerial error as defined by 19 CFR 351.224(f). We have corrected this error in accordance with 19 CFR 351.224(e) by adopting the respondents' suggested programming language. For further details, see Calculation Memorandum dated March 4, 2002.

Amended Final Results

As a result of our review and the correction of the ministerial error described above, we have determined that the margin for the collapsed entity Pohang Iron and Steel Co., Ltd. (POSCO)/Changwon/Dongbang is 5.61 percent.

Assessment

The Department shall determine, and the U.S. Customs Service shall assess, antidumping duties on all appropriate entries. The Department will issue appraisement instructions directly to the Customs Service. In accordance with 19 CFR 351.212(b)(1), we have calculated importer-specific assessment rates in the manner described in the Final Results, 67 FR at 6687.

Cash Deposit Requirements

Upon publication of this notice of amended final results of this administrative review, for all shipments of stainless steel wire rod from Korea entered, or withdrawn from warehouse, for consumption on or after publication date of the amended final results of this administrative review, as provided by section 751(a)(1) of the Act, the cash deposit rate for POSCO/ Changwon/Dongbang will be the rate established in these amended final results of this administrative review.

We are issuing and publishing this amendment to the final results in accordance with section 751(h) of the Act.

March 4, 2002
Faryar Shirzad,
Assistant Secretaryfor Import Administration.

[FR Doc. 02-5884 Filed 3-11-02; 8:45 am]

BILLING CODE 3510-DS-S